ENVIRONMENTAL PROTECTION AGENCY

40 CFR Part 52

[EPA-R01-OAR-2009-0451; A-1-FRL-9748-2]

Approval and Promulgation of Air Quality Implementation Plans; New Hampshire; Reasonably Available Control Technology for the 1997 8-Hour Ozone Standard

AGENCY: Environmental Protection Agency (EPA).

ACTION: Direct final rule.

SUMMARY: EPA is approving State Implementation Plan (SIP) revisions submitted by the State of New Hampshire. These revisions consist of a demonstration that New Hampshire meets the requirements of reasonably available control technology for oxides of nitrogen and volatile organic compounds set forth by the Clean Air Act with respect to the 1997 8-hour ozone standard, and revisions to existing rules controlling these pollutants, and source-specific orders for fifteen individual sources. This action is being taken in accordance with the Clean Air Act.

DATES: This direct final rule will be effective January 4, 2013, unless EPA receives adverse comments by December 5, 2012. If adverse comments are received, EPA will publish a timely withdrawal of the direct final rule in the Federal Register informing the public that the rule will not take effect.

ADDRESSES: Submit your comments, identified by the Docket ID Number EPA-R01-OAR-2009-0451 by one of the following methods:

1. www.regulations.gov: Follow the on-line instructions for submitting comments.

2. Email: arnold.anne@epa.gov

3. Fax: (617) 918-0047.

4. Mail: “Docket Identification Number EPA-R01-OAR-2009-0451,” Anne Arnold, U.S. Environmental Protection Agency, EPA New England Regional Office, 5 Post Office Square, Suite 100 (mail code: OEP05-2), Boston, MA 02109-3912.

5. Hand Delivery or Courier. Deliver your comments to: Anne Arnold, Manager, Air Quality Planning Unit, Office of Ecosystem Protection, U.S. Environmental Protection Agency, EPA New England Regional Office, 5 Post Office Square, 5th Floor, Boston, MA 02109-3912. Such deliveries are only accepted during the Regional Office's normal hours of operation. The Regional Office's official hours of business are Monday through Friday, 8:30 to 4:30, excluding legal holidays.

Instructions: Direct your comments to Docket ID No. EPA-R01-OAR-2009-0451. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, 5 Post Office Square, 5th Floor, Boston, MA. EPA requests that if at all possible, you contact the contact listed in the FOR FURTHER INFORMATION CONTACT section to schedule your inspection. The Regional Office's official hours of business are Monday through Friday, 8:30 to 4:30, excluding legal holidays.

In addition, copies of the state submittal are also available for public inspection during normal business hours, by appointment, at the State Air Agency, as follows: Air Resources Division, Department of Environmental Services, 6 Hazen Drive, P.O. Box 95, Concord, NH 03302-0095.

FOR FURTHER INFORMATION CONTACT: Bob McConnell, Air Quality Planning Unit, U.S. Environmental Protection Agency, EPA New England Regional Office, 5 Post Office Square, Suite 100 (mail code: OEP05-2), Boston, MA 02109-3912, telephone number (617) 918-1046, fax number (617) 918-0046, email mcconnell.robert@epa.gov.

SUPPLEMENTARY INFORMATION: Throughout this document whenever “we,” “us,” or “our” is used, we mean EPA. Organization of this document. The following outline is provided to aid in locating information in this preamble.

I. Background and Purpose

II. Summary of New Hampshire's SIP Revisions

III. Evaluation of New Hampshire's SIP Submittals

A. Evaluation of RACT Certification

B. Evaluation of Revised New Hampshire Rules

1. Revisions to VOC Rules and Single Source VOC RACT Orders

2. Revisions to NOX Rules and Single Source NOX RACT Orders

3. Revisions to Testing and Monitoring Procedures

4. Revisions to Recordkeeping and Reporting Requirements

IV. Final Action

V. Statutory and Executive Order Reviews

I. Background and Purpose

In 1997, EPA revised the health-based national ambient air quality standard (NAAQS) for ozone, setting it at 0.08 parts per million (ppm) averaged over an 8-hour time frame. EPA set the 8-hour ozone standard based on scientific evidence demonstrating that ozone causes adverse health effects at lower ozone concentrations and over longer periods of time than was understood when the pre-existing one-hour ozone standard was set. EPA determined that the 8-hour standard would be more protective of human health, especially with regard to children and adults who are active outdoors, and individuals with a pre-existing respiratory disease such as asthma.

On April 30, 2004 (69 FR 23951), EPA designated portions of New Hampshire located in the southern part of the state as nonattainment for the 1997 8-hour ozone standard. These areas were classified as moderate, and are located within portions of Hillsborough, Merrimack, Rockingham, and Strafford counties. See 40 CFR 81.330. The use of reasonably available control technology (RACT) by certain stationary sources is specified by sections 172(c)(1) and 182(b)(2) of the Clean Air Act (CAA, or “the Act”) in nonattainment areas classified as moderate or higher. Additionally, section 184(b)(1)(B) of the Act requires RACT controls in states located in the ozone transport region (OTR). Although most of central and northern New Hampshire were not designated nonattainment for the 1997 8-hour ozone standard, all parts of the state are within the OTR and therefore all parts of New Hampshire are required to implement RACT.

Specifically, these areas are required to implement RACT on all sources covered by a Control Techniques Guideline (CTG) document and on all major sources of volatile organic compounds (VOCs) and nitrogen oxide (NOX) emissions. A CTG is a document issued by EPA which establishes a “presumptive norm” for RACT for a specific VOC source category. A similar set of documents exists for NOX control requirements; these are referred to as Alternative Control Techniques (ACT) documents. States are required to submit rules or negative declarations for CTG source categories, but not for sources in ACT categories although RACT must be imposed on major sources of NOX, and some of those major sources may be within a sector covered by an ACT document.

On November 29, 2005, EPA published a final rule in the Federal Register that outlined requirements for areas found to be in nonattainment of the 1997 8-hour ozone standard (see 70 FR 71612). This rule, referred to as the “Phase 2 Implementation rule,” contains a description of what EPA's expectations are for states with RACT obligations. The Phase 2 Implementation rule indicated that states could meet RACT either through a certification that previously adopted RACT controls in its SIP-approved by EPA under the one-hour ozone NAAQS represent adequate RACT control levels for 8-hour attainment planning purposes, or through the establishment of new or more stringent requirements that represent RACT control levels.

On January 28, 2008, the State of New Hampshire submitted a formal revision to its State Implementation Plan (SIP). The SIP revision consisted of information documenting how the State complied with RACT requirements for the 1997 8-hour ozone standard.¹ Several of the source-specific RACT orders relied on in New Hampshire's January 28, 2008 submittal have been updated since that time as noted in section III of this action.

¹ New Hampshire's submittal is for the 1997 8-hour ozone standard and does not address the 0.075 ppm 2008 ozone standard.

On October 5, 2006, EPA issued four new CTGs which states were required to address by October 5, 2007 (71 FR 58745). Also, on October 9, 2007, EPA issued three more CTGs which states were required to address by October 9, 2008 (72 FR 57215). Furthermore, on October 7, 2008, EPA issued four additional CTGs which states were required to address by October 7, 2009 (73 FR 58841). New Hampshire's January 28, 2008 SIP revision and today's action do not address the state's obligations with regard to EPA's 2006, 2007, and 2008 CTGs. EPA intends to address those CTG obligations in a separate action in the near future.

II. Summary of New Hampshire's SIP Revisions

On January 28, 2008, New Hampshire submitted a demonstration that its regulatory framework for stationary sources met the criteria for RACT as defined in EPA's Phase 2 Implementation rule. The state held a public hearing on its RACT certification finding on October 20, 2006. New Hampshire's RACT submittal notes that the State's former status as a nonattainment area for the one-hour ozone standard resulted in the adoption of stringent controls for sources of VOC and NOX including RACT level controls. Therefore, much of New Hampshire's submittal consists of a review of RACT controls adopted under the one hour ozone standard and an evaluation of whether those previously adopted controls still represent RACT.

The state's submittal identifies the specific control measures that have been previously adopted to control emissions from sources of VOC and NOX emissions, and also describes updates made to existing rules to strengthen them so that they will continue to represent RACT. Additionally, section 3.3 of New Hampshire's RACT submittal identifies the CTG categories for which facilities do not exist within the state, and makes a negative declaration for these categories. The CTG categories for which New Hampshire makes a negative declaration are as follows:

1. Aerospace coatings

2. Organic waste process vents

3. Polystyrene foam manufacturing

4. Industrial wastewater

5. Refinery vacuum producing systems, wastewater separators, and process unit turnarounds

6. Surface coating of large appliances

7. Factory surface coating of flat wood paneling

8. VOC leaks from petroleum refinery equipment

9. Manufacture of synthesized pharmaceutical products

10. Manufacture of pneumatic rubber tires

11. Large petroleum dry cleaners

12. Manufacture of high density polyethylene, polypropylene, and polystyrene resins

13. VOC equipment leaks from natural gas/gasoline processing plants

14. VOC fugitive emissions from synthetic organic chemical polymer and resin equipment

15. VOC emissions from air oxidation processes in synthetic organic chemical mfg. industry

16. Synthetic organic chemical mfg. industry distillation and reactor processes

17. Shipbuilding and ship repair operations

Regarding items 6 and 7 above, we note that New Hampshire's negative declarations for these sectors is with regard to the CTG's issued in 1977 for large appliances (EPA-450/2-77-034, 1977/12) and in 1978 for flat wood paneling (EPA-450/2-78-032, 1978/06). EPA updated the flat wood paneling CTG in 2006, and the large appliance surface coating CTG in 2007, and New Hampshire subsequently addressed these updated CTGs. However, in this rulemaking we are only acting on New Hampshire's negative declarations for the 1977 and 1978 versions of these CTGs.

Appendix A of New Hampshire's submittal contains a summary of information for each of EPA's CTG categories, and identifies the specific state rule, where relevant, that is in place, the effective date for each rule, and the date that EPA approved the rule into the New Hampshire SIP. Appendix B identifies the major VOC and NOX sources in the state that are not covered by an ACT or CTG document, but are subject to RACT via source-specific RACT orders issued by the New Hampshire Department of Environmental Services (NH-DES). The state has issued source-specific orders containing control requirements for these facilities. The table within Appendix B identifies the effective date for each RACT order, and an indication of whether or not EPA had approved the order into the New Hampshire SIP. Table 1 below contains a list of the single source RACT orders that New Hampshire has adopted and submitted to EPA, but that we had not yet acted on as of the date of the state's RACT certification submittal. We note that the table within Appendix B of New Hampshire's submittal did not include an effective date for the order for Newington Energy LLC, as that order had not yet been issued when the state held the public hearing on its RACT certification in 2006. That order was subsequently issued by NH-DES with an effective date of June 20, 2007.

Table 1—RACT ORDERS NOT YET APPROVED INTO THE NH SIP
Company name | Pollutant | Final RACT order effective date
Concord Litho Group, Inc. | VOC | 9/17/2007.
Hitchiner Manufacturing, Milford | VOC | 6/20/2002.
Hutchinson Sealing Systems, Inc. | VOC | 8/8/2002 (Updated 3/23/2012).
Kalwall Corp.—Manchester | VOC | 11/20/2001.
Mectrol Corporation | VOC | 6/16/2003 (Withdrawn 7/2/2009).
Metal Works, Inc. | VOC | 12/22/2004.
Parker Hannifin Corporation, Chomerics | VOC | 7/17/2002.
Polyonics | VOC | 12/28/2007.
Sturm, Ruger & Company | VOC | 10/13/2003.
Textile Tapes Corp. (amended orders) | VOC | 4/19/2002; 8/10/2007.
TFX Medical, Inc. | VOC | 8/7/2007.
Webster Valve, Inc. | VOC | 4/20/2007.
Anheuser Busch | NOX | 5/9/2005.
Newington Energy, LLC | NOX | 6/20/2007.
PSNH, Schiller Station | NOX | 8/4/2006.
Waste Management of NH | NOX | 8/26/2002.

We provide a brief summary of each of the orders in Table 1, and identify the action we are taking on them in Section III.B of this direct final rule.

New Hampshire's certification notes that the RACT requirements apply to sources that have the potential to emit 50 tons per year or more of NOX, and to sources with potential VOC emissions of between 10 and 50 tons per year or greater depending on the source category. Figures one and two of the state's submittal document the significant reduction in emissions that has occurred at sources subject to RACT in the state. NOX and VOC emissions have fallen 77 percent and 59 percent, respectively, from stationary point sources since the RACT requirements contained within the CAA amendments of 1990 were promulgated.

New Hampshire's submittal notes that for the years 2003 through 2005 the state did not record any violations of the 1997 ozone standard, and the state's submittal concludes that tighter NOX and VOC controls are therefore not necessary to bring the area into attainment.

On March 12, 2003, New Hampshire submitted revised versions of Env-A 800, Testing and Monitoring Procedures, Env-A 1204, VOC RACT, and Env-A 1211, NOX RACT, to EPA and requested that these revised rules be incorporated into the New Hampshire SIP. Additional modifications to each of these rules were submitted to EPA as a SIP revision request on July 9, 2007.

On November 14, 2003, New Hampshire submitted a revised version of Env-A 900, Recordkeeping and Reporting Obligations, to EPA as a SIP revision request. More recently, on July 6, 2012, New Hampshire submitted an updated, revised version of Env-A 900 to EPA as a SIP revision request. On September 26, 2012, New Hampshire withdrew its November 2003 submission since its July 2012 submission of a revised version of Env-A 900 entirely superseded the earlier version of Env-A 900 included in its November 2003 submission.

III. Evaluation of New Hampshire's SIP Submittals

A. Evaluation of RACT Certification

EPA has evaluated the VOC and NOX stationary source control regulations that New Hampshire cites as meeting RACT for the 1997 8-hour standard and agrees that the state's regulations are satisfactorily meeting EPA's RACT requirements for purposes of the 1997 8-hour ozone standard. EPA previously approved these NOX and VOC RACT requirements into the New Hampshire SIP (See 62 FR 17087, April 9, 1997 for NOX; See 63 FR 11600, March 10, 1998 and 67 FR 48033, July 23, 2002 for VOC), and in today's direct final rulemaking we are approving updates to several of these rules, and also approving single source RACT determinations for fifteen major sources of VOC and NOX in the state.

We are determining that these regulatory elements and the resulting reduction in VOC and NOX emissions from sources demonstrate that a RACT level of control has been implemented in the state. Additionally, we are approving the negative declarations New Hampshire submitted for the source categories identified in Section II of this document.

EPA published a clean data determination for New Hampshire's only 8-hour ozone nonattainment area in the Federal Register that documents that air quality monitoring data in the state currently meets EPA's 1997 ozone standard. The determination for the Boston-Manchester-Portsmouth moderate area was published on March 18, 2011 (76 FR 14805). The improvements in air quality represented by this clean data determination were brought about, in part, by the RACT program implemented by New Hampshire. Additional information about the revisions to New Hampshire's rules and the single source RACT orders we are approving today is contained below in section III.B and III.C.

B. Evaluation of Revised New Hampshire Rules

1. Revisions to VOC Rules and Single Source VOC RACT Orders

On March 12, 2003, New Hampshire submitted a revised version of its VOC RACT regulation, Env-A 1204, to EPA as a SIP revision request. The revised version of the VOC RACT rules removed provisions relating to petroleum refineries, as there are no such facilities in the state. Additionally, the state removed a section regarding an equivalent substitute control technique because a similar provision that requires submittal to EPA exists and was retained in the rule. Several minor updates to references and correction of errors were also made within the March 12, 2003 submittal.

On July 9, 2007, New Hampshire submitted additional updates to its VOC RACT regulations to EPA as a SIP revision request. The July 9, 2007 submittal consisted primarily of updates to the state's existing requirements for solvent metal cleaning that were made to match requirements recommended within a model rule adopted by the Ozone Transport Commission (OTC). The primary changes made to the rule consisted of adoption of expanded applicability of the state's existing rule to include anyone who sells VOC containing solvent for use in a cold cleaning machine, and a prohibition was added preventing certain items from being cleaned in a cold cleaning machine. In keeping with the model rule adopted by the OTC, New Hampshire's rule prohibits the use of solvents with a vapor pressure greater than 1.0 millimeter of mercury in cold cleaning operations. The addition of a vapor pressure limit makes the revised rule more stringent than the previous version of the rule approved by EPA into the New Hampshire SIP in 2002 (67 FR 48033), thus satisfying the anti-backsliding requirements of section 110(l) of the CAA. A number of minor updates and renumbering changes were also included in the July 9, 2007 submittal. We are approving New Hampshire's updated VOC RACT regulations as submitted to EPA on March 12, 2003, and modified on July 9, 2007.

As previously mentioned, on March 10, 1998 (63 FR 11600), EPA approved New Hampshire's VOC RACT requirements that the state had adopted in 1995 as part of its emission control strategy for the one-hour ozone standard. However, our March 10, 1998 action provided only a limited approval of Env-A 1204.27, the state's rule for major sources that are not covered by one of EPA's CTG documents. A final, full approval of Env-A 1204.27 was issued on July 23, 2002 (67 FR 48033), although that approval was limited to portions of the state located in the New Hampshire portion of the eastern Massachusetts serious one-hour ozone nonattainment area. Approval of Env-A-1204.27 in the remainder of the state was not granted at that time because New Hampshire had not issued single source RACT orders for all major sources of VOC and NOX in the remainder of the state.

New Hampshire has now adopted RACT for all major sources, and we are approving those orders and providing a full statewide approval of New Hampshire's requirements for miscellaneous and multi-category sources within this direct final rule.

A brief description of the single source VOC RACT orders that we are approving in today's action is provided below. A number of these orders contain provisions for complying with RACT via purchase of, or generation of, emission reduction credits. New Hampshire has an adopted emissions credit trading rule, Env-A 3100, Discrete Emission Reduction Trading Program. However, EPA has not approved Env-A 3100 into the New Hampshire SIP. Therefore, we have evaluated the generation and use of DERs in each of these cases and believe that they represent a legitimate option for sources to comply with RACT. We are therefore approving their use as outlined in the individual orders being approved in this action. Additionally, any purchased credits used for RACT compliance must come from a source whose order is also federally approved.

Concord Litho Group

The Concord Litho Group operates a facility in Concord, New Hampshire where it uses an offset lithographic printing operation to produce greeting cards, brochures, magazines, and direct mail inserts. The company operates two regenerative thermal oxidizers to control VOC emissions from five of the seven printing presses at the facility. On September 17, 2007, NH-DES issued VOC RACT order ARD 07-003 to the company. The order requires that the VOC emissions from the dryer exhaust of the heat-set web offset lithographic presses either be reduced by 90% or have a total organics level of 20 parts per million or less. The company will meet these requirements by controlling VOC emissions with their two recuperative thermal oxidizers. The order allows the facility to comply by purchasing DERs during times that maintenance is being performed, or when an oxidizer malfunctions.

Hitchiner Manufacturing

The Hitchiner Manufacturing Company operates a casting foundry and ceramics molding operation in Milford, New Hampshire. In 2002, the facility ceased operation of a VOC emitting operation referred to as the Plant 2 ceramics molding process and was granted 29 tons in VOC emission reduction credits (ERCs) by NH-DES for this shutdown. NH-DES issued VOC RACT order ARD-02-001 to the facility on June 21, 2002. The order requires that the facility reduce its VOC emissions by 81%, and caps annual VOC emissions at less than 50 tons per year. The facility will meet these obligations primarily by use of the ERCs generated by the shutdown of the Plant 2 ceramics molding process.

Hutchinson Sealing Systems, Inc.

Hutchinson Sealing Systems located in Newfields, New Hampshire, operates a facility that produces sealing systems, body seals, and rubber glass-run channels used in the automotive and other industries. On August 8, 2002, NH-DES issued VOC RACT order ARD-01-002 to the facility, and submitted it as a revision to the state's SIP on this same day. On March 23, 2012, NH-DES submitted an updated VOC RACT order identified as ARD-11-001 that replaced the prior order issued to the facility in 2002. The updated order indicates that the company will install and operate a catalytic oxidizer to control VOC emissions from some of the process lines at the facility. The updated order contains VOC content limits for motor vehicle weather-strip adhesive coatings, and an allowance for compliance to be met by using either DERs or ERCs. The company must also continue to research and test water based and/or high solids coatings as new products become available.

Kalwall Corporation

The Kalwall Corporation located in Manchester, New Hampshire, manufactures energy efficient window like structural components out of specially formulated, fiberglass reinforced material. The NH-DES developed VOC RACT order ARD-95-010 for the facility and submitted it to EPA on September 10, 1996, and we approved that order into the New Hampshire SIP in our March 10, 1998 final rulemaking mentioned elsewhere in this document. On June 25, 1999, NH-DES submitted an updated VOC RACT order for Kalwall numbered ARD-99-001 to replace the previously issued order, and requested the order be approved into the New Hampshire SIP. A minor update to this order was submitted to EPA on November 20, 2001, and we are approving that version of ARD-99-001 via this final rulemaking. The major aspects of the updated order establish VOC content limits for bonding agents used on IBSS process lines 1 and 2, for coatings used in the KWS process, for clear or transparent topcoats used in the KCRF process, and for pretreatment primers applied in the KCRF process. VOC RACT order ARD-99-001 also allows the company to comply by purchasing DERs as provided for by Env-A 3100 of New Hampshire's air regulations.

Mectrol Corporation

On June 16, 2003, NH-DES issued VOC RACT order ARD-03-002 to the Mectrol Corporation located in Salem, New Hampshire and submitted it to EPA as a SIP revision request. However, by letter dated July 2, 2009, NH-DES subsequently withdrew this request because the coating units that had been the subject of the order had been removed from the facility. Therefore, we are taking no action with regard to New Hampshire's June 16, 2003 SIP submittal request.

Metal Works, Inc

Metal Works, Inc., operates a facility in Londonderry, New Hampshire, where it is primarily engaged in the fabrication of sheet metal. The facility operates 5 spray booths, and these booths are the primary source of VOC emissions at the facility. On December 22, 2004, NH-DES issued VOC RACT order ARD-05-001. The order contains the following VOC content limits: for clear and transparent top coats 4.3 lbs VOC per gallon of coating, as applied, excluding water and exempt coatings; for coatings used in extreme environmental conditions, and for air dried coatings, 3.5 lbs VOC per gallon of coating; and for all other coatings, 3.0 lbs VOC per gallon of coating. The order also allows the company to comply with VOC RACT by using DERs.

Parker-Hanifan Corporation, Chomerics Division

The Chomerics Division of the Parker Hanifan Corporation located in Hudson, New Hampshire, produces coated fabrics, films, and other substrates for use in the electronics industry. NH-DES issued VOC RACT order ARD-03-001 to the company on July 18, 2002. The facility operates four continuous web coaters, and the VOC emissions from each are captured within a permanent total enclosure that meets the requirements of EPA Method 204. Exhaust from dryers on each line is fed to a catalytic oxidizer that is required to achieve a minimum destruction and removal efficiency for VOCs of 93%. The order contains monitoring and recordkeeping requirements for the catalytic oxidizer. The order also allows the company to comply by generating and using emission credits for compliance, and to comply via the purchase of DERs.

Polyonics

The Polyonics facility located in Westmoreland, New Hampshire, manufactures pressure sensitive tagging and labeling materials. The company operates a catalytic oxidizer to control VOC emissions from its two web gravure coaters. On December 28, 2007, NH-DES issued VOC RACT order ARD 07-004 to the company. The order requires that the company comply with a VOC content limit of 2.9 lbs VOC per gallon for its paper, fabric, film and foil coating operations. Alternatively, the company is allowed to comply by using the catalytic oxidizer, by averaging coating limits such that the weighted average complies with the 2.9 lbs VOC per gallon coating limit, or by using DERs.

Sturm, Ruger & Company

Sturm, Ruger & Company located in Newport, New Hampshire, produces a variety of steel investment castings in the manufacture of firearms. NH-DES issued VOC RACT order ARD-03-001 to the facility on October 13, 2003, and re-issued it in amended form shortly thereafter on December 1, 2003. The order contains VOC limits for coatings used in the facility's woodworking spray booths and paint mixing rooms, and also contains a number of work practice and housekeeping standards to minimize emissions. The order also contains a 10 gallon daily maximum use amount for touch-up and repair finishing materials, compliance standards for cold cleaning operations at the facility, and a 1.0 lb VOC per gallon limit for metal parts coating operations other than rust-proofing. The VOC emission rate from the company's rust-proofing operation is limited to 3.5 lbs VOC per gallon of coating, excluding water and exempt compounds. The company is also required to achieve an 81% reduction in VOC emissions from its flash de-wax process.

Textile Tapes Corporation

The Textile Tapes Corporation located in Gonic, New Hampshire, operates two coating lines that coat woven and non-woven materials with adhesive in the production of tapes and coated products. The NH-DES issued an initial VOC RACT order to the facility on December 9, 1996, and EPA approved that order into the New Hampshire SIP on March 10, 1998 (63 FR 11600). On August 31, 2007, NH-DES submitted an amended VOC RACT order to EPA as a SIP revision request. Since the initial order was issued in 1996, a number of revisions have been made to the order, as follows. In 1998, the company requested and was granted permission to use a generic release coating that had not been addressed in the order issued in 1996. In 1999, the company requested permission to install a recuperative thermal oxidizer and to replace the dryer on coating line 1B. NH-DES granted permission for these modifications and issued an amended order to Textile Tapes on April 19, 2002, and submitted the amended order to EPA as a SIP revision request.

In 2006, Textile Tapes requested permission to use a coating that exceeds the 2.9 lb/gal emission limit required by Env-A 1204.10(c) of New Hampshire's air pollution control regulations. NH-DES required the company to purchase DER credits as provided for within Env-A 3100 of New Hampshire's air pollution control regulations. The facility complied by purchasing 4 DER credits from the Public Service Company of New Hampshire on October 3, 2006. New Hampshire issued amended order ARD-96-001 to Textile Tapes with an effective date of August 10, 2007. The amended order allows the company to self-generate DER credits needed to compensate for their non-compliant coating via the over-control achieved by the recuperative thermal oxidizer. New Hampshire submitted the amended order to EPA as a SIP revision request on August 31, 2007, and we are approving the amended order into the New Hampshire SIP in this direct final rulemaking.

TFX Medical Incorporated

TFX Medical Incorporated operates a facility in Jaffrey, New Hampshire, where it manufactures tubing for automotive and medical applications and devices. The manufacturing process involves extruding a mixture of polytetrafluoroethylene resin with a hydrocarbon solvent and then curing the tubing in ovens. The facility operates a recuperative thermal oxidizer to control VOC emissions from the extruder lines and curing ovens. On August 7, 2007, NH-DES issued VOC RACT order ARD 07-002 to the company. The order requires the company to reduce VOC emissions by a minimum of 81%, and the company achieves this obligation primarily by use of the thermal oxidizer. During times that the thermal oxidizer is not able to meet this control requirement, the order allows the company to comply by using DERs.

Webster Valve, Incorporated

Webster Valve, Incorporated operates a facility in Franklin, New Hampshire, that is engaged in the manufacture of valves, regulators, and backflow prevention devices for plumbing, heating, and water quality applications. There are 6 spray booths at the facility where various coatings are applied to the product. On March 21, 2007, NH-DES issued VOC RACT order ARD 07-001 to the company. The order contains the following VOC content limits: for clear and transparent top coats 4.3 lbs VOC per gallon of coating, as applied, excluding water and exempt coatings; for coatings used in extreme environmental conditions, and for air dried coatings, 3.5 lbs VOC per gallon of coating; and for all other coatings, 3.0 lbs VOC per gallon of coating. The order also allows the company to comply with VOC RACT by using DERs.

EPA agrees with New Hampshire's RACT determinations for the eleven sources listed above, and therefore we are approving the single source VOC RACT orders for these sources, with the exception of the order for the Mectrol Corporation, as NH-DES requested withdrawal of the SIP revision for that facility. In instances where New Hampshire has required air pollution capture and control equipment, a minimum 81% reduction has been required to be achieved. The VOC RACT orders contain acceptable levels of monitoring, recordkeeping and reporting provisions to enable the state to effectively track compliance at these facilities. Additionally, we are also fully approving Env-A 1204.27, New Hampshire's requirements for miscellaneous and multi-category sources, for all parts of the state.

2. Revision to NOX Rules and Single Source NOX RACT Orders

On March 12, 2003, New Hampshire submitted a revised version of its NOX RACT regulation, Env-A 1211, to EPA as a SIP revision request. As compared to the previous, SIP-approved version of the rule, the version submitted in 2003 contained lower NOX limits for gas-fired combustion turbines, and revisions applicable to emergency generators. The main update made to the rule consisted of a change made to the NOX RACT requirements for gas-fired turbines constructed after May 27, 1999. A change was made to account for certifications that facilities were obtaining from manufacturers that these units emitted NOX at levels less than New Hampshire's NOX RACT limits. New Hampshire, therefore, made its emission limits for these units more restrictive. The new NOX emissions limits for these units are found at Env-A 1211.06(d), and limit average hourly NOX emissions to 25 parts per million, corrected to 15% oxygen, or alternatively, 0.092 pounds per million British thermal unit (BTU). Since the revised rule's NOX limits for gas-fired turbines constructed after May 25, 1999 are more stringent than the previous SIP-approved version, the anti-backsliding requirements of section 110(l) of the CAA are satisfied.

Regarding the emergency generator related revisions, the state noted that after the initial provisions for emergency generators were adopted in 1994, NH-DES received numerous complaints that an aspect of the rule regarding ignition timing was causing many facilities to encounter difficulty ensuring that a continuous supply of electricity could be provided by the generator. New Hampshire prepared an analysis of the emissions impact that removal of this provision would cause and determined that the impact would be minimal, and so a change was made to the emergency generator regulation providing relief from this provision.

On July 9, 2007, New Hampshire submitted additional revisions to Env-A 1211 as a SIP revision request. The revisions included a change to the testing requirements for auxiliary boilers with a heat input of between 5 million and 50 million BTUs, removed a provision that had allowed such boilers to meet a less stringent NOX emission limit once emissions exceeded 50 tons per year, and removed a requirement that continuous emission monitors (CEMs) be used on small boilers.

In today's action, we are approving the updated version of Env-A 1211 that New Hampshire submitted on March 12, 2003, and updated on July 9, 2007, into the New Hampshire SIP. It should be noted that additional NOX requirements within Env-A 1211 were subsequently submitted by NH-DES and approved by EPA as part of New Hampshire's Regional Haze SIP (77 FR 50602, August 22, 2012).

Additionally, we are approving NOX RACT orders for four facilities. A brief description of each order is provided below.

Anheuser Busch

Anheuser Busch operates a brewery in Merrimack, New Hampshire. The significant NOX emitting devices at the facility consist of three oil and natural gas-fired boilers, and also an open flare. On May 9, 2005, NH-DES issued NOX order ARD-05-001 to the company. The order requires that the company comply with a NOX limit of 0.068 lbs NOX per million BTUs for the open flare. Regarding the boilers, the order requires an emission rate of 0.25 lbs NOX per million BTU on a 24-hour average when burning natural gas or a combination of natural gas and biogas. An emission rate of 0.40 lbs NOX per million BTU on a 24-hour average must be met when oil or a combination of oil and biogas is being used. Additionally, the order requires testing of a bio energy recovery system the facility intends to install at the facility.

Newington Energy, LLC

Newington Energy operates a 525 megawatt combined cycle electric generation facility in Newington, New Hampshire. Other equipment at the facility includes a natural gas-fired auxiliary boiler, eight natural gas-fired fuel gas heaters, one diesel fired emergency generator, and one diesel fired firewater pump. On June 20, 2007, NH-DES issued NOX RACT order ARD-04-001 to the company. The order requires the company to install and operate low NOX burners on six fuel gas heaters, and to also comply with a NOX emission concentration of 9.9 ppm and an emission rate of 0.012 lbs NOX per million BTU for these gas heaters.

PSNH, Schiller Station

The Public Service Company of New Hampshire's (PSNH) Schiller Station is a 153 megawatt fossil fuel fired electric generating station located in Portsmouth, New Hampshire. Electric power is produced at the facility by three utility boilers, one combustion turbine that operates as a load shaving unit, and one emergency generator. On August 4, 2006, NH-DES issued NOX RACT order ARD-06-001 to the company. The order requires that the boiler equipped with a circulating fluidized bed install and operate a selective non-catalytic reducing (SNCR) control device to meet an emission limit of 0.975 lbs NOX per million BTU. Additionally, the order requires that the facility continue to comply with conditions D.1.c and D.1.d of NOX RACT order ARD-98-001 pertaining to a non-ozone season NOX cap of 8,208 tons and an ozone season NOX cap of 3,727 tons for the combined emissions from units identified as MK1, MK2, NT1, SR4, SR5, and SR6.

Waste Management

Waste Management operates a facility in Rochester, New Hampshire that consists of two, closed municipal solid waste landfills, one active municipal solid waste landfill, a materials recovery facility, a leachate treatment plant, and two landfill gas to energy plants. On August 26, 2002, NH-DES issued NOX RACT order ARD 01-001. New Hampshire submitted an updated order to EPA as a SIP revision request on August 2, 2012. We are approving the updated order in today's action. The order provides performance standards for the three flares at the facility, and also provides testing, recordkeeping and reporting requirements for the facility to follow.

EPA agrees that the NOX provisions in the orders for the four facilities outlined above constitute RACT for these facilities.

3. Revisions to Testing and Monitoring Procedures

On March 15, 1983, EPA approved New Hampshire's Env-A 800, testing and monitoring requirements for air pollution sources into the New Hampshire SIP. Additional updates to these requirements were subsequently incorporated in the New Hampshire SIP as noted within 40 CFR 52.1525.

On March 12, 2003, New Hampshire submitted revisions to Env-A 800 to EPA as a SIP revision request. The revisions include simplifications to some procedures and delineates what methods should be used when monitoring emissions and checking the accuracy of CEM systems. Additionally, the amended rule contains a requirement that a relative accuracy test audit (RATA) be performed annually on each CEM system. If the system does not pass the RATA, the new rule requires that another full audit be conducted, whereas the prior version of the rule only required a partial audit be done in such circumstances. The state submitted additional revisions to Env-A 800 to EPA as a SIP revision request on July 9, 2007. The July 9, 2007 submittal contained revisions to Env-A 803.03 and Env-A 803.04, primarily with regard to requirements for small boilers and emergency generators. We are approving New Hampshire's revised version of Env-A 800 as submitted on March 12, 2003 and revised on July 9, 2007, with the exception of Env-A 807 pertaining to requirements regarding testing and monitoring for opacity. We are taking no action with regard to Env-A 807.

4. Revisions to Recordkeeping and Reporting Requirements

On March 15, 1983, EPA approved Env-A 900, recordkeeping and reporting requirements for air pollution sources, into the New Hampshire SIP. Additional updates to these requirements were subsequently incorporated in the New Hampshire SIP as noted within 40 CFR 52.1525.

On November 14, 2003, New Hampshire submitted an updated version of Env-A 900, Owner or Operator Recordkeeping and Reporting Obligations, to EPA as a SIP revision request. New Hampshire's submittal was prompted by their re-adoption of the rule with amendments. The amendments included clarifying language, a re-alignment of the reporting date for the annual emission statement requirement, a repeal of a provision requiring reporting of malfunctions and replacement of that provision with a recordkeeping and reporting requirement for permit deviations, and a re-organization of the previously adopted rule.

On July 6, 2012, New Hampshire submitted an updated version of Env-A 900, Owner or Operator Recordkeeping and Reporting Obligations, to EPA as a SIP revision request. The revised version of Env-A 900 completely supersedes the older version of Env-A 900 that New Hampshire had submitted in 2003.² The revisions included clarification to a number of recordkeeping provisions, and also amended the requirements for fuel-users regarding fuel sulfur content records. Additionally, the general reporting requirements for Title V sources that previously had been stated in each permit were added to Env-A 900. New Hampshire requested that all portions of the revised Env-A 900 be incorporated into its SIP with the exception of certain provisions that are required by 40 CFR Part 70 for Title V sources.

² On September 26, 2012, New Hampshire withdrew its November 2003 submission.

At this time, we are not taking action on Env-A 912 (Alternative Time Periods), nor on the provisions required relating to Title V sources that New Hampshire requested not be incorporated into its SIP.

In today's action, we are approving New Hampshire's July 6, 2012 revised version of Env-A 900, with the exceptions of (1) the provisions relating to 40 CFR Part 70 contained within Env-A 907 and Env-A 911, and (2) the provisions of Env-A 912 (Alternative Time Periods).

IV. Final Action

EPA is approving SIP revisions submitted by the State of New Hampshire. EPA is approving New Hampshire's January 28, 2008 RACT certification and negative declarations as meeting RACT for the 1997 8-hour standard. Additionally, we are approving the following portions of New Hampshire's air pollution control requirements: Env-A 800, Testing and Monitoring Procedures, with the exception of Env-A 807, Testing for Opacity of Emissions; Env-A 900, Owner or Operator Recordkeeping and Reporting Obligations, with the exceptions of certain provisions within Env-A 907 and Env-A 911, and the entirety of Env-A 912; Env-A 1200, Volatile Organic Compound RACT; and, Env-A 1211, Nitrogen Oxide RACT. Additionally, we are approving individual VOC RACT orders for the Concord Litho Group, Hitchiner Manufacturing, Hutchinson Sealing Systems, Kalwall Corporation, Metal Works Incorporated, Parker Hannifin Corporation, Polyonics, Sturm Ruger & Company, Textile Tapes Corporation, TFX Medical, and Webster Valve Incorporated. NOX RACT orders are being approved for Anheuser Busch, Newington Energy, PSNH-Schiller Station, and Waste Management of New Hampshire.

The EPA is publishing this action without prior proposal because the Agency views this as a noncontroversial amendment and anticipates no adverse comments. However, in the proposed rules section of this Federal Register publication, EPA is publishing a separate document that will serve as the proposal to approve the SIP revision should relevant adverse comments be filed. This rule will be effective January 4, 2013 without further notice unless the Agency receives relevant adverse comments by December 5, 2012.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on January 4, 2013 and no further action will be taken on the proposed rule. Please note that if EPA receives adverse comment on an amendment, paragraph, or section of this rule and if that provision may be severed from the remainder of the rule, EPA may adopt as final those provisions of the rule that are not the subject of an adverse comment.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 4, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Nitrogen dioxide, Ozone, Reporting and recordkeeping requirements, Volatile organic compounds.

Dated: October 19, 2012.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart EE—New Hampshire

2. § 52.1520 is amended by:

a. In the table in paragraph (c), revising entries to existing state citations for Env-A 800, Env-A 900, and Env-A 1200.

b. Adding 15 new entries to the end of the table in paragraph (d).

c. Adding one new entry to the end of the table in paragraph (e).

The revisions and additions read as follows.

§ 52.1520 Identification of plan.

* * * * *

(c) EPA approved regulations.

EPA Approved New Hampshire Regulations
State citation | Title/subject | State effective date | EPA approval date ¹ | Explanations
* * * * * * *
Env-A 800 | Testing and Monitoring Procedures | 10/31/2002; 12/22/2004 | 11/5/2012 [Insert Federal Register page number where the document begins] | Approved Sections Env-A 801 through 806, 808 and 809 of New Hampshire's air emission testing and monitoring requirements.
Env-A 900 | Owner or Operator Obligations | 04/21/2007 | 11/5/2012 [Insert Federal Register page number where the document begins] | Approved Env-A 900 through 906, 907.01(a) and (b)(1) through (b)(4), 907.02 and .03, 908 through 910, and 911.01 through 911.04.
* * * * * * *
Env-A 1200 | Prevention, Abatement, and Control of Stationary Source Air Pollution | 10/31/2002; 12/22/2004; 02/26/2005 | 11/5/2012 [Insert Federal Register page number where the document begins] | Approved Env-A 1200, containing New Hampshire's VOC and NOX RACT requirements.
* * * * * * *
¹ In order to determine the EPA effective date for a specific provision listed in this table, consult the Federal Register notice cited in this column for the particular provision.

(d) EPA-approved State Source specific requirements.

EPA-Approved New Hampshire Source Specific Requirements
Name of source | Permit No. | State effective date | EPA approval date ² | Additional explanations/§ 52.1535 citation
* * * * * * *
Concord Litho Group | ARD-07-003 | 9/17/2007 | 11/5/2012 [Insert Federal Register page number where the document begins] | Single source VOC RACT order for facility in Concord, NH.
Hitchiner Manufacturing | ARD-02-001 | 6/21/2002 | 11/5/2012 [Insert Federal Register page number where the document begins] | Single source VOC RACT order for facility in Milford, NH.
Hutchinson Sealing Systems | ARD-01-002 | 8/8/2002 | 11/5/2012 [Insert Federal Register page number where the document begins] | Single source VOC RACT order for facility in Newfields, NH.
Kalwall Corporation | ARD-99-001 | 11/20/2011 | 11/5/2012 [Insert Federal Register page number where the document begins] | Single source VOC RACT order for facility in Manchester, NH.
Metal Works | ARD-05-001 | 12/22/2004 | 11/5/2012 [Insert Federal Register page number where the document begins] | Single source VOC RACT order for facility in Londonderry, NH.
Parker-Hanifan Corporation | ARD-03-001 | 7/18/2002 | 11/5/2012 [Insert Federal Register page number where the document begins] | Single source VOC RACT order for facility in Hudson, NH.
Polyonics | ARD-99-001 | 12/28/2007 | 11/5/2012 [Insert Federal Register page number where the document begins] | Single source VOC RACT order for facility in Westmoreland, NH.
Sturm, Ruger & Company | ARD-03-001 | 12/1/2003 | 11/5/2012 [Insert Federal Register page number where the document begins] | Single source VOC RACT order for facility located in Newport, NH.
Textile Tapes Corporation | ARD-96-001 | 8/10/2007 | 11/5/2012 [Insert Federal Register page number where the document begins] | Single source VOC RACT order for facility in Gonic, NH.
TFX Medical Incorporated | ARD-07-002 | 8/7/2007 | 11/5/2012 [Insert Federal Register page number where the document begins] | Single source VOC RACT order for facility in Jaffrey, NH.
Webster Valve | ARD-07-001 | 3/21/2007 | 11/5/2012 [Insert Federal Register page number where the document begins] | Single source VOC RACT order for facility in Franklin, NH.
Anheuser Busch | ARD-05-001 | 5/9/2005 | 11/5/2012 [Insert Federal Register page number where the document begins] | Single source NOX RACT order for facility in Merrimack, NH.
Newington Energy, LLC | ARD-04-001 | 6/20/2007 | 11/5/2012 [Insert Federal Register page number where the document begins] | Single source NOX RACT order for facility in Newington, NH.
PSNH, Schiller Station | ARD-06-001 | 8/4/2006 | 11/5/2012 [Insert Federal Register page number where the document begins] | Single source NOX RACT order for facility in Portsmouth, NH.
Waste Management | ARD-01-001 | 8/26/2002 | 11/5/2012 [Insert Federal Register page number where the document begins] | Single source NOX RACT order for facility in Rochester, NH.
* * * * * * *
² In order to determine the EPA effective date for a specific provision listed in this table, consult the Federal Register notice cited in this column for the particular provision.

(e) Nonregulatory.

New Hampshire Non Regulatory
Name of non regulatory SIP provision | Applicable geographic or nonattainment area | State submittal date/ effective date | EPA approved date ³ | Explanation
* * * * * * *
Certification for RACT for the 1997 8-Hour Ozone Standard | Statewide | 1/28/2008 | 11/5/2012 [Insert Federal Register page number where the document begins] | New Hampshire submitted documentation that RACT requirements were in place for sources of VOC and NOX for purposes of the 1997 8-hour ozone standard.
* * * * * * *
³ In order to determine the EPA effective date for a specific provision listed in this table, consult the Federal Register notice cited in this column for the particular provision.

[FR Doc. 2012-26759 Filed 11-2-12; 8:45 am]

BILLING CODE 6560-50-P